FEDERAL COMMUNICATIONS COMMISSION

[Report No. 2489]

Petitions for Reconsideration of Action in Rulemaking Proceedings

June 8, 2001.

Petitions for Reconsideration have been filed in the Commission's rulemaking proceedings listed in this Public Notice and published pursuant to 47 CFR Section 1.429(e). The full text of these document are available for viewing and copying in Room CY-A257, 445 12th Street, S.W., Washington, D.C. or may be purchased from the Commission's copy contractor, ITS, Inc. (202) 857-3800. Oppositions to these petitions must be filed by July 3, 2001. See Section 1.4(b)(1) of the Commission's rules (47 CFR 1.4(b)(1)). Replies to an opposition must be filed within 10 days after the time for filing oppositions have expired.

Subject: Amendment FM Table of Allotments, Order to Show Cause [MM Docket No. 80-120].

Number of Petitions Filed: 1.

Subject: Amendment FM Table of Allotments, Order to Show Cause [MM Docket No. 91-352].

Number of Petitions Filed: 1.

Subject: Amendment of the FM Table of Allotments [MM Docket No. 90-195].

Number of Petitions Filed: 1.

Subject: Amendment of the FM Table of Allotments [MM Docket No. 92-214].

Number of Petitions Filed: 1.

Federal Communications Commission.
Magalie Roman Salas,
Secretary.

[FR Doc. 01-15317 Filed 6-15-01; 8:45 am]

BILLING CODE 6712-01-M